COMMISSION ON CIVIL RIGHTS

Notice of Public Meeting of the Missouri Advisory Committee for a Meeting To Hear Testimony Regarding Police and Community Interaction in Missouri

AGENCY: U.S. Commission on Civil Rights.

ACTION: Notice of meeting.

SUMMARY: Notice is hereby given, pursuant to the provisions of the rules and regulations of the U.S. Commission on Civil Rights (Commission) and the Federal Advisory Committee Act that the Missouri Advisory Committee (Committee) will hold a meeting on Monday, February 23, 2015, for the purpose of hearing presenters testify about the civil rights issues regarding police and community interactions in Missouri.

Members of the public are invited and welcomed to make statements into the record during two open forum periods. The first open forum will be held from 12:00 p.m. until 12:30 p.m. The second open forum will be held from 4:15 p.m. until 5:15 p.m. Members of the public are also entitled to submit written comments; the comments must be received in the regional office by March 27, 2015. Written comments may be mailed to the Midwestern Regional Office, U.S. Commission on Civil Rights, 55 W. Monroe St., Suite 410, Chicago, IL 60615. They may also be faxed to the Commission at (312) 353-8311, or emailed to Melissa Wojnaroski, Civil Rights Analyst, at mwojnaroski@usccr.gov. Persons who desire additional information may contact the Midwestern Regional Office at (312) 353-8311.

Closed-captioning of the meeting will be provided. If other persons who will attend the meeting require other accommodations, please contact Carolyn Allen at callen@usccr.gov at the Midwestern Regional Office at least ten (10) working days before the scheduled date of the meeting.

Records generated from this meeting may be inspected and reproduced at the Midwestern Regional Office, as they become available, both before and after the meeting. Records of the meeting will be available via www.facadatabase.gov under the Commission on Civil Rights, Missouri Advisory Committee link. Persons interested in the work of this Committee are directed to the Commission's Web site, http://www.usccr.gov, or may contact the Midwestern Regional Office at the above email or street address.

Agenda

8:00-8:15 a.m. Introduction and Opening Remarks

S. David Mitchell, Missouri Advisory Committee Chairman

Martin Castro, U.S. Commission on Civil Rights Chairman

8:15-9:30 a.m. Panel 1: Academic Experts

• Dr. Richard Rosenfeld, UMSL

• Dr. Justin Hansford, St. Louis University

• Dr. Stefan Bradley, St. Louis University

• Dr. Marva Robinson, Association of Black Psychologists

9:35-10:30 a.m. Panel 2: Community Representatives I

• Ms. Pamela Meanes, National Bar Association

• Mr. Adolphus Pruitt, NAACP St. Louis

• Mr. Marius Johnson-Malone, Better Together

10:30-10:40 a.m. Break

10:40-11:55 a.m. Panel 3: Community Representatives II

• Rev. Traci Blackmon, Christ the King Church

• Mr. James Clark, Better Family Life

• Ms. Charli Cooksey, Young Citizens Council of St. Louis

• Ms. Leticia Seitz, Latinos en Axion St. Louis

• Mr. David Nehrt-Flores, MO Immigrant and Refugee Advocates

12:00-12:30 p.m. Open Forum I

12:30-1:30 p.m. Lunch Break

1:30-2:45 p.m. Panel 5: Law Enforcement Representatives

• Chief Jon Belmar, St. Louis County

• Chief Frank McCall, Berkeley Police

• Chief Thomas Jackson, Ferguson Police

• Representative from the MO Highway Patrol

• Representative from St. Louis Metropolitan Police

2:50-4:05 p.m. Panel 4: Government Representatives

• Dr. Daniel Isom, MO Department of Public Safety

• Ms. Tishaura Jones, St. Louis City Treasurer and Young Citizen's Council of St. Louis

• Dr. Ellen Scrivner, The Police Foundation

• Representative from U.S. Department of Justice COPS program (tentative)

• Representative from the Office of the Governor of Missouri (tentative)

4:05-4:15 p.m. Break

4:15-5:15 p.m. Open Forum II

5:15-5:30 p.m. Closing Remarks

S. David Mitchell, Missouri Advisory Committee Chair

5:30 p.m. Adjournment

DATES: The meeting will be held on Monday, February 23, 2015, at 8:00 a.m.

ADDRESSES: The meeting will be held at the University of Missouri—St. Louis, J.C. Penney Conference Center, One University Boulevard, St. Louis, MO 63121.

Dated: February 3, 2015.
David Mussatt,
Chief, Regional Programs Unit.

[FR Doc. 2015-02400 Filed 2-5-15; 8:45 am]

BILLING CODE 6335-01-P